DEPARTMENT OF DEFENSE

Office of the Secretary

[Transmittal No. 19-0P]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(5)(C) arms sales notification is published to fulfill the requirements of section 155 of Public Law 104-164 dated July 21, 1996. The following is a copy of a letter to the Speaker of the House of Representatives, Transmittal 19-0P with attached Policy Justification and Sensitivity of Technology.

Dated: December 23, 2019.
Aaron T. Siegel,
Alternate OSD Federal Register Liaison Officer, Department of Defense.

BILLING CODE 5001-06-P

BILLING CODE 5001-06-C

Transmittal No. 19-0P

REPORT OF ENHANCEMENT OR UPGRADE OF SENSITIVITY OF TECHONOLOGY OR CAPABILITY (SEC 36(B)(5)(C), AECA)

(i) Prospective Purchaser: Government of France

(ii) Sec 36(b)(1), AECA Transmittal No.: 13-40

Date: July 9, 2013

Military Department: Air Force

(iii) Description: On July 9, 2013, Congress was notified by Congressional certification transmittal number 13-40 of the possible sale under Section 36(b)(1) of the Arms Export Control Act of 16 MQ-9 Reaper Remotely Piloted Aircraft; 8 Mobile Ground Control Stations; 48 Honeywell TPE331-10T Turboprop Engines (16 installed and 32 Spares); 24 Satellite Earth Terminal Substations; 40 Ku Band Link-Airborne Communication Systems; 40 General Atomics Lynx (exportable) Synthetic Aperture Radar/Ground Moving Target Indicator (SAR/GMTI) Systems; 40 AN/DAS-1 Multi-Spectral Targeting System (MTS)-B; 40 Ground Data Terminals; 40 ARC-210 Radio Systems; 40 Embedded Global Positioning System/Inertial Navigation Systems; and 48 AN/APX-119 and KIV-119 Identify Friend or Foe (IFF) Systems. Also provided are spare and repair parts, communication, test, and support equipment, publications and technical documentation, airworthiness and maintenance support, site surveys and bed down planning, personnel training and training equipment, operational flight test, U.S. Government and contractor technical and logistics personnel services, and other related elements of logistics support. The estimated total cost was $1.5 billion. Major Defense Equipment (MDE) constituted $765 million of this total.

On July 26, 2018, Congress was notified by Congressional certification transmittal number 18-0B of the retrofit of MQ-9s to become weapons capable, and the inclusion of 100 GBU-49 Enhanced Paveway dual mode GPS and laser guided bomb kits comprised of MXU-650 Air Foil Group (AFG) and MAU-210 Enhanced Computer Control Group (ECCG); 200 FMU-152 fuzes; 650 AGM-114R Hellfire missiles, with active warheads; 45 AGM-114R Hellfire training missiles, without active warhead; and 6 Hellfire Captive Air Training Missiles. The retrofit and inclusion of MDE not enumerated in the original notification resulted in an increase in the cost of MDE by $210 million. The new MDE cost was $975 million. The total case value increased to $1.71 billion.

This transmittal reports the:

1) retrofit of four (4) MQ-9A Block 1 to MQ-9A Block 5;

2) addition of four (4) MQ-9A Block 5; and

3) addition of fourteen (14) Embedded GPS/INS (EGI) with GPS Security Devices.

The MDE cost of these items is $80 million, resulting in a new MDE cost of $1.055 billion. The total case value will remain $1.71 billion.

(iv) Significance: This notification is being provided as the retrofit of the MQ-9A systems and the inclusion of MDE items not originally notified represent an increase in capability over what was originally notified. This equipment will provide France's MQ-9 program with the equipment necessary to support the capability requested.

(v) Justification: This proposed sale will support the foreign policy and national security of the United States by helping to improve the security of a NATO ally which continues to be an important force for political stability and economic progress in Western Europe.

(vi) Sensitivity of Technology: The MQ-9A is a long-endurance, medium altitude Remotely Piloted Aircraft (RPA) that can be used for surveillance, military reconnaissance, and targeting missions. MQ-9A is capable of performing real-time flown under the control of a pilot in a Ground Control Station (GCS). A data link is maintained that uplink commands and downlink video with telemetry data. The data link can be a Line-of-Sight (LOS) C-Band communication or Beyond Line-of-Sight (BLOS) Ku-Band Satellite Communication (SATCOM). Aircraft can be handed off to other strategically placed ground control stations. The MQ-9A is designed to carry 800 pounds of internal payload with maximum fuel and can carry multiple mission payload aloft such as kinetics, Electro-Optical/Infrared (EO/IR), Synthetic Aperture Radar (SAR), and other laser target designators. Block 5 includes a redesigned forward avionics bay, NSA Type 1 encrypted data links, enhanced power, dual wing-tip ARC-210 radios, payload control computer, enhanced HMI and payload control in GCS.

(vii) Date Report Delivered to Congress: November 22, 2019

[FR Doc. 2019-28186 Filed 12-30-19; 8:45 am]

BILLING CODE 5001-06-P